FEDERAL EMERGENCY MANAGEMENT AGENCY

44 CFR Part 67

[Docket No. FEMA-D-7506]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Associate Director, Mitigation Directorate, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground *Elevation in feet (NGVD): Existing | #Depth in feet above ground *Elevation in feet (NGVD): Modified
Indiana | Decatur County (Unincorporated Areas) | Righthand Fork | At confluence with Lake Santee | None | *997
|  |  | Approximately 1,850 feet upstream of the confluence of Righthand Fork Tributary | None | *1,025
|  | Righthand Fork Tributary | At confluence with Righthand Fork | None | *1,017
|  |  | Approximately 1,003 feet upstream of the confluence with Righthand Fork | None | *1,023
|  | Lake Santee | For its entire shoreline within the community | None | *997
Maps available for inspection at the Decatur County Area Planning Commission Office, 150 Courthouse Square, Greensburg, Indiana.
Maine | Bar Island, Lincoln County | Muscongus Bay | Entire shoreline of Bar Island | None | *16
Maps available for inspection at the Bristol Town Office, 1268 Bristol Road, Bristol, Maine, and Land Use Regulation Commission, State House Station 22, Augusta, Maine.
Send comments to Mr. Fred Todd, Land Use Regulation Commission, State House Station 22, Augusta, Maine 04333.
Maine | Dixfield (Town), Oxford County | Androscoggin River | At the downstream corporate limits | None | *403
|  |  | At the confluence of the Webb River | None | *416
|  | Aunt Hannah Brook | At the confluence with the Webb River | None | *434
|  |  | Approximately 75 feet upstream of Weld Road | None | *443
|  | Butterfield Brook | At the confluence with Sevenmile Stream | None | *466
|  |  | Approximately 60 feet upstream of U.S. Route 2/State Route 17 | None | *478
|  | Harvey Brook | At the confluence with the Androscoggin River | None | *407
|  |  | Approximately 460 feet upstream of Canton Point Road | None | *407
|  | Hugh Brook | At the confluence with Sevenmile Stream | None | *516
|  |  | Approximately 1,460 feet upstream of the confluence with Sevenmile Stream | None | *562
|  | Newton Brook | At the confluence with the Androscoggin River | None | *409
|  |  | Just upstream of Norton Road | None | *580
|  | Paddy Meadow Brook | Approximately 1,400 feet upstream of the confluence with the Webb River | None | *435
|  |  | Just upstream of Weld Road | None | *458
|  | Potash Brook | At the confluence with Sevenmile Stream | None | *490
|  |  | At county boundary | None | *491
|  | Sevenmile Stream | Approximately 490 feet downstream of Severy Hill Road | None | *422
|  |  | Approximately 0.5 mile upstream of U.S. Route 2/State Route 17 | None | *562
|  | Tucker Valley Brook | Approximately 0.7 mile downstream of Valley Brook Road | None | *428
|  |  | Approximately 70 feet upstream of Point Morse Hill Road | None | *612
|  | Webb River | At the confluence with Androscoggin River | None | *416
|  |  | Approximately 100 feet downstream of U.S. Route 2 | None | *420
Maps available for inspection at the Dixfield Town Hall, 46 Main Street, Dixfield, Maine.
Send comments to Mr. Hugh G. Daley, Chairman of the Town of Dixfield Board of Selectmen, P.O. Box 808, Dixfield, Maine 04224-0808.
Maine | Greenville (Town) Piscataquis County | Mill Brook | At the confluence with Moosehead Lake | None | *1,030
|  |  | Approximately 55 feet upstream of Scammon Road | None | *1,260
|  | Prong Pond | Entire shoreline within community | None | *1,033
Maps available for inspection at the Greenville Town Office, Minden Street, Greenville, Maine.
Send comments to Mr. John Simko, Greenville Town Manager, P.O. Box 1109, Greenville, Maine 04441.
Maine | Indian Island, Lincoln County | Muscongus Bay | Western shoreline of Indian Island | None | *13
|  |  | Eastern shoreline of Indian Island | None | *16
Maps available for inspection at the Bristol Town Office, 1268 Bristol Road, Bristol, Maine, and Land Use Regulation Commission, State House Station 22, Augusta, Maine.
Send comments to Mr. Fred Todd, Land Use Regulation Commission, State House Station 22, Augusta, Maine 04333.
Maine | Louds Island, Lincoln County | Muscongus Bay | Eastern shoreline of Louds Island directly west of Killick Stone Island | None | *23
|  | Muscongus Sound | Northwestern shoreline of Louds Island | None | *10
Maps available for inspection at the Bristol Town Office, 1268 Bristol Road, Bristol, Maine, and Land Use Regulation Commission, State House Station 22, Augusta, Maine.
Send comments to Mr. Fred Todd, Land Use Regulation Commission, State House Station 22, Augusta, Maine 04333.
Maine | Marsh Island, Lincoln County | Muscongus Bay | Southeastern shoreline of Marsh Island | None | *23
|  |  | Northern shoreline of Marsh Island | None | *10
Maps available for inspection at the Bristol Town Office, 1268 Bristol Road, Bristol, Maine, and Land Use Regulation Commission, State House Station 22, Augusta, Maine.
Send comments to Mr. Fred Todd, Land Use Regulation Commission, State House Station 22, Augusta, Maine 04333.
Maine | Wilton (Town), Franklin County | Butterfield Brook | At U.S. Route 2/State Route 17 | None | *477
|  |  | Approximately 0.64 mile upstream of Butterfield Road | None | *727
|  | Cram Brook | At confluence with Sevenmile Stream | None | *611
|  |  | At confluence of Ice Pond Brook | None | *617
|  | Ice Pond Brook | At confluence with Cram Brook | None | *617
|  |  | Approximately 230 feet upstream of Gordon Road | None | *638
|  | Pine Brook | At confluence with Wilson Stream | None | *581
|  |  | Approximately 85 feet upstream of State Route 156 (Weld Road) | None | *592
|  | Potash Brook | At U.S. Route 2/State Route17 | None | *488
|  |  | Approximately 120 feet upstream of Cemetery Road | None | *515
|  | Sevenmile Stream | At downstream U.S. Route 2/State Route 17 crossing | None | *520
|  |  | At upstream corporate limits | None | *633
|  | Temple Brook | At confluence with Wilson Stream | None | *635
|  |  | Approximately 0.84 mile upstream of State Road 156 (Weld Road) | None | *775
|  | Wilson Stream | At confluence with Wilson Pond | None | *576
|  |  | Approximately 0.7 mile upsream of Tobin Flats Road | None | *726
|  | Varnum Pond | Approximately 1,250 feet west of the intersection of Rupert Road and Walker Hill Road | None | *758
Maps available for inspection at the Wilton Town Hall, Code Enforcement Office, 158 Weld Road, Wilton, Maine.
Send comments to Mr. Richard Davis, Wilton Town Manager, P.O. Box 651, Wilton, Maine 04294.
New Hampshire | Nashua (City), Hillsborough County | Nashua River | At the downstream side of B&M Railroad Bridge | *115 | *114
|  |  | Approximately 0.75 mile upstream of State Route 11 | *177 | *176
|  | Bartemus Brook | At confluence with Nashua River | *167 | *165
|  |  | At upstream corporate limits | *168 | *166
Maps available for inspection at the Nashua City Hall, 229 Main Street, Nashua, New Hampshire.
Send comments to The Honorable Bernard A. Streeter, Mayor of the City of Nashua, 229 Main Street, Nashua, New Hampshire 03061.
New Jersey | Millburn (Township), Essex County | Passaic River | Approximately 2,550 feet upstream of downstreeam corporation limits | *176 | *177
|  |  | Approximately 100 feet downstream of Main Street | *180 | *179
Maps available for inspection at the Millburn Township Hall, 375 Millburn Avenue, Millburn, Ne Jersey.
Send comments to The Honorable Elaine Becker, Mayor of the Township of Millburn, 375 Millburn Avenue, Millburn, New Jersey 07041.
New Jersey | New Providence (Borough), Union County | Passaic River | At the downstream corporate limit | *208 | *207
|  |  | At the upstream corporate limit | *211 | *212
Maps available for inspection at the New Providence Borough Hall, Engineer's Office, 360 Elkwood Avenue, New Providence, New Jersey.
Send comments to The Honorable Allen Morgan, Mayor of the Borough of New Providence, Municipal Building, 360 Elkwood Avenue, New Providence, New Jersey 07974.
New Jersey | Roseland (Borough), Essex County | Passaic River | At the downstream corporate limits | *173 | *174
|  |  | Approximately 0.65 mile upstream of Eagle Rock Avenue | *174 | *175
|  | Foulertons Brook | At the confluence with Passaic River | *173 | *174
|  |  | Approximately 0.44 mile upstream of the confluence with Passaic River | *173 | *174
|  | North Branch Foulertons Brook | At the confluence with Foulertons Brook | *173 | *174
|  |  | Approximately 780 feet upstream of the confluence with Foulertons Brook | *173 | *174
Maps available for inspection at the Roseland Municipal Building, Office of the Borough Clerk, 19 Harrison Avenue, Roseland, New Jersey.
Send comments to The Honorable Louis DeBell, Mayor of the Borough of Roseland, Municipal Building, 19 Harrison Avenue, Roseland, New Jersey 07068-1397.
New Jersey | Warren (Township), Somerset County | Passaic River | Approximately 0.38 mile downstream of Hillcrest Road | *215 | *213
|  |  | Approximately 3.45 miles upstream of Stirling Road | *216 | *214
Maps available for inspection at the Warren Township Hall, Engineer's Office, 46 Mountain Boulevard, Warren, New Jersey.
Send comments to The Honorable Kenneth Brenn, Mayor of the Township of Warren, 46 Mountain Boulevard, Warren, New Jersey 07059.
New York | Corning (Town), Steuben County | Post Creek | Approximately 150 feet downstream of downstream corporate limits | None | *956
|  |  | Approximately 1,850 feet upstream of downstream corporate limits | None | *967
Maps available for inspection at the Corning Town Hall, 20 South Maple Street, Corning, New York 14830.
Send comments to Mr. Joe Prisella, Corning Town Supervisor, 20 South Maple Street, Corning, New York 14830.
New York | Hamburg (Town), Erie County | Foster Brook | At the confluence with Lake Erie | *581 | *582
|  |  | Downstream side of Maelou Drive | *791 | *795
|  | Lake Erie | Southwest corporate limits along Lake Erie | *580 | *582
|  |  | Northeast corporate limits along Lake Erie | *581 | *582
Maps available for inspection at the Town of Hamburg Building Inspection Department, 6100 South Park Avenue, Hamburg, New York.
Send comments to Mr. Patrick H. Hoak, Hamburg Town Supervisor, 6100 South Park Avenue, Hamburg, New York 14075.
Ohio | Adams County (Unincorporated Areas) | Ohio River | Approximately 600 feet downstream of the downstream county boundary | None | *517
|  |  | Approximately 400 feet upstream of the upstream county boundary | None | *529
Maps available for inspection at the Adams County Administrative Offices, 215 North Cross Street, West Union, Ohio.
Send comments to Mr. Robert Hall, Adams County Senior Commissioner, 110 West Main Street, West Union, Ohio 45693.
Ohio | Brown County (Unincorporated Areas) | Ohio River | From the downstream county boundary | None | *509
|  |  | From the upstream county boundary | None | *517
Maps available for inspection at the Brown County Engineer's Office, 325 West State Street, Georgetown, Ohio.
Send comments to Mr. Kirby Cornett, Chairman of the Brown County Board of Commissioners, 800 Mount Orab Pike, Georgetown, Ohio 45121.
Ohio | Valley View (Village), Cuyahoga County | Cuyahoga River | Approximately 250 feet downstream of corporate limits | *602 | *606
|  |  | Approximately 100 feet upstream of Hillside Road | *616 | *615
Maps available for inspection at the Valley View Village Hall, 6848 Hathaway Road, Valley View, Ohio.
Send comments to The Honorable Randall A. Westfall, Mayor of the Village of Valley View, 6848 Hathaway Road, Valley View, Ohio 44125.
Pennsylvania | Emmaus (Borough), Lehigh County | Tributary No. 1 to Little Lehigh Creek | Approximately 450 feet downstream of East Berger Street | None | *337
|  |  | Approximately 460 feet upstream of Minor Street | None | *418
Maps available for inspection at the Emmaus Borough Hall, 28 South Fourth Street, Emmaus, Pennsylvania.
Send comments to The Honorable Winfield Lost, Mayor of the Borough of Emmaus, 28 South Fourth Street, Emmaus, Pennsylvania 18049.
South Carolina | Richland County (Unincorporated Areas) | Gills Creek | At the confluence with the Congaree River | *135 | *133
|  |  | At the Southern Railway bridge | *140 | *139
|  | Rocky Branch | At the confluence with Congaree River | *152 | *146
|  |  | Approximately 460 feet upstream of Olympia Avenue | *152 | *151
|  | Tributary G-1 | At the confluence with Gills Creek | *140 | *136
|  |  | Approximately 810 feet upstream of Bluff Road | *142 | *141
|  | Reeder Point Branch | At the confluence with Black Lake | *129 | *133
|  |  | Approximately 140 feet upstream side of State Route 48 (Bluff Road) | *136 | *135
|  | Congaree River | Approximately 2.64 miles downstream of the confluence with Gills Creek | None | *128
|  |  | Approximately 0.45 mile upstream of the Southern Railway | *155 | *149
|  | Spears Creek | Downstream side of Jacobs Mill Pond Road | *220 | *221
|  |  | Approximately 0.5 mile upstream Spears Creek Church Road | *312 | *311
|  | Lake Murry | Entire shoreline within county | None | *363
Maps available for inspection at the Richland County Planning Department, 2020 Hampton Street, Columbia, South Carolina.
Send comments to Mr. T. Cary McSwain, Richland County Administrator, P.O. Box 192, Columbia, South Carolina 29202.

(Catalog of Federal Domestic Assistance No. 83.100, “Flood Insurance”)
Dated: January 30, 2001.
Margaret E. Lawless,
Acting Executive Associate Director for Mitigation.

[FR Doc. 01-3918 Filed 2-15-01; 8:45 am]

BILLING CODE 6718-04-P